DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than August 9, 2016.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Develop a Strategic Communication Plan for the Bureau of Primary Health Care (BPHC).

OMB No. 0915-xxxx—New.

Abstract: Health centers (which include those entities funded under Public Health Service Act section 330 and those designated as Health Center Program Look-Alikes) deliver comprehensive, high quality, cost-effective primary health care services to patients regardless of their ability to pay. Health centers have become an essential primary care provider for America's most vulnerable populations. Health centers advance the health care home model of coordinated, comprehensive, and patient-centered primary health care providing a wide range of medical, dental, behavioral, and social services. Nearly 1,400 health centers operate more than 9,800 service delivery sites that provide care in every state, the District of Columbia, Puerto Rico, the U.S. Virgin Islands, and the Pacific Basin.

The Health Center Program is administered by BPHC. BPHC provides accurate, timely, and valuable information to internal and external stakeholders in order to support its mission to improve the health of the Nation's underserved communities and vulnerable populations by assuring access to comprehensive, culturally competent, quality primary health care services.

BPHC will engage with key external stakeholder populations to collect data that will inform the creation of a data-driven strategic communication plan that serves BPHC's stakeholders and facilitates clear, timely, and well-coordinated communication. This comprehensive strategic plan will identify communication priorities for BPHC, leading to a more efficient and effective communication operations with a focus on establishing BPHC's capacity for leading external affairs activities.

Need and Proposed Use of the Information: Data collected from Health Center Program stakeholders are critical to the development of a communication plan and will be used to identify audiences and their preferences for communication; develop effective key messages regarding the Health Center Program grant and non-grant processes; increase health centers' and the public's understanding of the program requirements; develop BPHC communication goals, strategies, and tactics; and develop meaningful metrics for communication process improvement. This systematic exploration will inform the development of cost-efficient and effective business processes that will centralize and streamline external communication within BPHC.

Likely Respondents: Health Center Program grantees and Look-Alikes, entities with national cooperative agreements, and state and regional primary care associations.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form name | Number of respondents | Number of responses per respondent | Total responses | Average burden per response (in hours) | Total burden hours
Online Surveys | 200 | 1 | 200 | .2 | 40
Focus Groups | 80 | 1 | 80 | 1.5 | 120
One-on-One Interviews | 50 | 2 | 100 | .75 | 75
Total | 330 |  | 380 |  | 235

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2016-13736 Filed 6-9-16; 8:45 am]

BILLING CODE 4165-15-P